DEPARTMENT OF TRANSPORTATION

Maritime Administration

[Docket No. USCG-2007-26844]

Woodside Natural Gas, Inc. OceanWay Secure Energy Liquefied Natural Gas Deepwater Port License Application; Preparation of Environmental Impact Statement/Environmental Impact Report

AGENCY: Maritime Administration, DOT.

ACTION: Notice extending the scoping comment period to October 31, 2007.

SUMMARY: By Federal Register notice of September 14, 2007 (72 FR 52607-52611) the Maritime Administration (MARAD) and the U.S. Coast Guard (Coast Guard) announced the intent to prepare an environmental impact statement/environmental impact report (EIS/EIR) for the Woodside Natural Gas, Inc. OceanWay Secure Energy Deepwater LNG Port license application located in the Federal waters of the Santa Monica Basin, approximately 27 miles southwest of Los Angeles International Airport (LAX).

The EIS/EIR will be prepared with the City of Los Angeles (City) as a cooperating agency in the environmental review with the Coast Guard since the applicant has also filed an application for a lease/franchise of submerged City lands and an onshore pipeline franchise for the natural gas pipeline through the City. The EIS/EIR will meet the requirements of both the National Environmental Policy Act (NEPA) and the California Environmental Quality Act (CEQA).

Publication of that notice began a 30-day scoping process and requested public participation to assist in the identification and determination of the environmental issues to be addressed in the EIS/EIR with a deadline for submitting comments of October 12, 2007.

In addition to receiving comments at the public scoping meeting on September 26, 2007, instructions were provided for submitting comments to the Department of Transportation (DOT) Docket Management System and to the new Federal Docket Management System (FDMS). On September 27, 2007 the DOT Docket Management System began migration to be replaced by the Federal Docket Management System to be effective October 1, 2007. Because of planned outages in the migration, the comment period was extended to October 15, 2007, as announced at the public meeting.

Because of additional system migration outages; the need for familiarization time with the FDMS; and interest generated by the project, by this notice, MARAD; the Coast Guard; and the City of Los Angeles have extended the scoping comment period to October 31, 2007.

DATES: Comments or related material must be received by October 31, 2007.

ADDRESSES: The public docket for USCG-2007-26844 is maintained by the Department of Transportation, Docket Management Facility, 1200 New Jersey Avenue, SE., West Building, Ground Floor, Room W12-140, Washington, DC 20590-0001.

Docket contents are available for public inspection and copying at this address between 9 a.m. and 5 p.m., Monday through Friday, except Federal holidays. The Facility's telephone number is 202-366-9329, the fax number is 202-493-2251, and the web site for electronic submissions or for electronic access to docket contents is http://www.regulations.gov.

FOR FURTHER INFORMATION CONTACT: Questions regarding the proposed Project, the license application process, or the EIS/EIR process may be directed to Roddy Bachman, U.S. Coast Guard, telephone: (202) 372-1451, e-mail: (Roddy.C.Bachman@uscg.mil), or Linda Moore, City of Los Angeles, telephone: (213) 485-5751, e-mail: (Linda.Moore@lacity.org). Questions on viewing or commenting on the Docket should be directed to Renee V. Wright, Program Manager, Docket Operations, telephone: (202) 493-0402, e-mail: renee.wright@dot.gov.

The FDMS also contains the notices, application and related correspondence; informational open house materials; will also contain the public meeting transcripts; and will contain the Draft and the Final EIS/EIR and all comments submitted whether at public meetings or submitted directly. This can be accessed at http://www.regulations.gov, and by entering docket number 26844.

Information pertaining to the proposed OceanWay Deepwater Port Project is also available online with the City of Los Angeles at: http://eng.lacity.org/techdocs/emg/Environmental_Review_Documents.htm.

SUPPLEMENTARY INFORMATION:

Request for Comments

The Coast Guard, MARAD, and the City request submittal of comments and related material on environmental issues related to the proposed deepwater port using one of the methods described below. We most particularly seek comments that identify potentially significant impacts, alternatives, or mitigation measures that should be taken into account in determining the scope of the EIS/EIR.

The Coast Guard, MARAD and City will consider all comments and material received during the comment period. It is not necessary to present comments more than once. Comments need not be submitted to multiple agencies; all comments received will be shared amongst agencies. In our coordinated effort, City of Los Angeles has agreed that the Federal Docket Management System and Docket Management Facility is the system that should be used for submitting all comments.

Submissions to the Federal Docket Management System should include:

• Docket number USCG-2007-26844.

• Your name and address.

• Your reasons for making each comment or for bringing information to our attention.

Submit comments or material using only one of the following methods:

• Electronic submission to FDMS (preferred) at http://www.regulations.gov: Click on “Search for Dockets”; Enter Docket ID 26844; click on USCG-2007-26844; view documents by clicking the PDF icon under “Views”; and/or follow the online instructions for submitting comments.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Regardless of the method used for submitting comments or material, all submissions will be posted, without change, to the FDMS Web site (http://www.regulations.gov), and will include any personal information provided. Therefore, submitting this information makes it public. You may review DOT's complete Privacy Act Statement in the Federal Register published on April 11, 2000 (65 FR 19477-78). You may view docket submissions at the Docket Management Facility (see ADDRESSES), or electronically on the FDMS Web site.

Additional FDMS Information

For additional information on the migration and Docket instructions please see Federal Register notice of September 24, 2007 (72 FR 54315-54317).

The Coast Guard is still working with the FDMS to correct some document numbering and order issues caused by the migration to the new system. In particular, some application documents are out of sequence. The correct chronological order and application document sequence as of this notice for the documents is as follows by document ID number:

26844-1 | Notice of Application.
26844-2-6 | License Application Parts 1-5.
26844-54 | City of LA Pipeline Franchise Application.
26844-7 | Exhibit A Project Description.
26844-13 | Exhibit B Environmental Report.
26844-14 | Exhibit C Health, Safety, Security, Environment.
26844-15 | Topic Report 1 Aesthetics.
26844-16 | Topic Report 2 Water Quality.
26844-17 | Topic Report 3 Biological Resources.
26844-18-19 | Topic Report 4 Cultural Resources.
26844-20-21 | Topic Report 5 Socioeconomics.
26844-22-31 | Topic Report 6 Geological Resources.
26844-58 | Topic Report 6 Geological Resources.
26844-32-38 | Topic Report 7 Land Use.
26844-39 | Topic Report 8 Air Quality.
26844-40-41 | Topic report 9 Traffic.
26844-42 | Topic Report 10 Noise.
26844-43 | Topic Report 11 Public Services and Utilities.
26844-44 | Topic Report 12 Hazardous Materials and Waste.
26844-45-52 | Topic Report 13 Alternatives.
26844-53 | Topic Report 14 Cumulative Impacts.
26844-8 | Appendix A to Exhibit A.
26844-12 | Appendix B through O to Exhibit A.
26844-57, 59 | Appendix K to Topic Report 6.
26844-60-62 | Appendix K to Topic Report 6.
26844-63-70 | Appendix L to Topic Report 6.
26844-71-75 | Appendix M to Topic Report 6.
26844-76-81 | Appendix N to Topic Report 6.
26844-82-94 | Appendix O to Topic Report 6.
26844-95-129 | Appendix P to Topic Report 6.
26844-130-133 | Appendix V to Topic Report 9.
26844-134 | Appendix Y to Topic Report 12.
26844-55-56 | Appendix AA to Topic Report 12.
26844-135 | Dear Interested Party Letter.
26844-136 | Public Notice.
26844-137 | Notice of Intent; Notice of Public Meeting; Request for Comments.
26844-138 | Start of Comments.

Dated: October 12, 2007.
By order of the Maritime Administrator.
Christine Gurland,
Secretary, Maritime Administration.

[FR Doc. E7-20492 Filed 10-16-07; 8:45 am]

BILLING CODE 4910-81-P